DEPARTMENT OF TRANSPORTATION

Federal Aviation Administration

[Summary Notice No. PE-2000-21]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR Ch. I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before July 24, 2000.

ADDRESSES: Send comments on any petition in triplicate to: Federal Aviation Administration, Office of the Chief Counsel, Attn: Rule Docket (AGC-200), Petition docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Avaiation Administration, 800 Independence Avenue, SW., Washington, DC 20591.

This notice is published pursuant to paragraphs (c), (e), and (g) of § 11.27 of part 11 of the Federal Aviation Regulations (14 CFR part 11).

Issued in Washington, DC, on June 20, 2000.
Anthony F. Fazio,
Director, Office of Rulemaking.

Petitions for Exemption

Docket No: 29909.

Petitioner: KaiserAir, Inc.

Section of the FAR Affected. 14 CFR 135.153(a).

Description of Relief Sought: To permit KaiserAir to operate one Gulfstream American G-1159A airplane (Registration No. N740SS, Serial No. 369) equipped with a Sperry (Honeywell) VA-100 Voice Advisory/Ground Proximity System rather than an approved ground proximity warning system until the third quarter of 2000.

Docket No.: 29953.

Petitioner: Simulator Training, Inc.

Section of the FAR Affected: 14 CFR 61.63(e)(4)(i) and 61.157(g)(3)(i).

Description of Relief Sought: To allow STI to use a Level a Level B flight simulator rather than a Level C or Level D flight simulator for the initial portion of the required training and testing for an airline transport pilot certificate with an airplane category, class, and type rating, and additional aircraft ratings.

Docket No.: 29990.

Petitioner: FlightSafety Boeing Training International.

Section of the FAR Affected: 14 CFR 142.53.

Description of Relief Sought: To permit FlightSafety to designate simulator instructors who instruct exclusively under 14 CFR part 61 within the scope of part 142 in a flight simulator that the Administrator has approved for all training and testing for the airline transport pilot certification test, aircraft type rating test, or both, without meeting the requirement to complete actual airplane flight time or line abservation an approved line-oriented flight training program.

Docket No.: 30011.

Petitioner: Ameriflight, Inc.

Section of the FAR Affected: 14 CFR 135.243(c).

Description of Relief Sought: To permit Ameriflight to (1) allow its pilots in command (PICs) of single-engine piston-powered airplanes to operate under instrument flight rules with a minimum of 800 hours of flight time, including 400 hours of cross-country flight time and 75 hours of night flight time, in lieu of the flight-time requirements of § 135.243(c)(2), and (2) allow its PICs of multi-engine piston-powered airplane with maximum takeoff weights not greater than 8,000 pounds to operate under instrument flight rules with a minimum of 800 hours of flight time but otherwise in compliance with § 135.243(c)(2).

Dispositions of Petitions

Docket No.: 25242.

Petitioner: Experimental Aircraft Association.

Section of the FAR Affected: 14 CFR 61.58(a)(2) and 91.5.

Description of Relief Sought/Disposition: To permit EAA members to complete an approved training course in lieu of a pilot proficiency check. The exemption applies to training courses for the following aircraft: Boeing B-17; North American B-25; Douglas B-26, C-47, and C-54; Consolidated PBY; Martin PBM; Grumman S-2-F; Curtiss C-46; and Ford Tri-Motor. Grant, 06/02/2000, Exemption No. 4941F.

Docket No.: 29012.

Petitioner: Continental Airlines, Inc.

Section of the FAR Affected: 14 CFR 121.434(c)(1)(ii).

Description of Relief Sought/Disposition: To permit Continental to substitute a qualified and authorized check airman in place of an FAA inspector to observe a qualifying pilot in command who is completing the initial or upgrade training specified in § 121.424 during at least one flight leg that includes a takeoff and a landing, subject to certain conditions and limitations. Grant, 06/02/2000, Exemption No. 29012.

Docket No.: 29401.

Petitioner: Hollingsead International, Inc.

Section of the FAR Affected: 14 CFR 25.855(a), 25.857(e), and 25.1447(c)(1).

Description of Relief Sought/Disposition: To permit supplemental type certification of Airbus A300 airplane models B2-1A, B2-1C, B2K-3C, B2-203, B4-103, B4-2C and B4-203 modified to include a main deck Class E cargo compartment, to provide accommodations for up to a maximum of 16 supernumerary occupants acting as grooms to attend to live-animal cargo, in a Class E cargo compartment. Grant, 06/06/2000, Exemption No. 7234.

Docket No.: 30006.

Petitioner: Michigan City Aviators, Inc.

Section of the FAR Affected: 14 CFR 135.251, 135.255, 135.353, and appendixes I and J to part 121.

Description of Relief Sought/Disposition: To permit MCA to conduct local sightseeing flights at Michigan City Airport, Indiana, for a pancake breakfast on July 8, 2000, for compensation or hire, without complying with certain anti-drug and alcohol misuse prevention requirements of part 135. Grant, 06/06/2000, Exemption No. 7232.

Docket No.: 30060.

Petitioner: New London Airport.

Section of the FAR Affected: 14 CFR 135.251, 135.255, 135.353, and appendixes I and J to part 121.

Description of Relief Sought/Disposition: To permit NLA to conduct local sightseeing flights at New London Airport, Virginia, for an annual fly-in on June 4, 2000, for compensation or hire, without complying with certain anti-drug and alcohol misuse prevention requirements of part 135. Grant, 06/02/2000, Exemption No. 7233.

[FR Doc. 00-16666 Filed 6-29-00; 8:45 am]

BILLING CODE 4910-13-M